COMMISSION ON CIVIL RIGHTS

Sunshine Act Meeting Notice

AGENCY: United States Commission on Civil Rights.

ACTION: Notice of Commission business meeting.

DATES: Date and Time: Wednesday, November 18, 2015; 10 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Status on pending Commission reports

• Presentation discussion and vote on timeline and on town hall plan for 2016 Statutory Enforcement Report on Environmental Justice

• Discussion and vote on approval of letter to Solicitor General regarding Fisher v. Univ. of Texas

• Discussion and vote on approval of public statement on Fisher v. Univ. of Texas

• Discussion about December 11th event at the Lincoln Cottage ceremony commemorating the passage of the 13th Amendment

• Discussion of next steps regarding Texas' denial of birth certificates to US citizen children of undocumented immigrants

• Discussion and vote on part B findings and recommendations for Peaceful Coexistence report

• Discussion and vote on approval of letter to Attorney General Lynch regarding prosecutions of Chinese Americans for spying and espionage.

III. Management and Operations

• Report by SAC Chair for Kansas

• Introduction of General Counsel Maureen Rudolph

• Staff Director Report

IV. State Advisory Committee (SAC) Appointments

• Maryland

• West Virginia

• Interim appointments to Missouri SAC

• Interim appointment to Kentucky SAC

• Appointment of Wisconsin SAC Chair

V. Adjourn Meeting

Dated: November 6, 2015.
David Mussatt,
Chief, Regional Programs Unit.

[FR Doc. 2015-28715 Filed 11-6-15; 4:15 pm]

BILLING CODE 6335-01-P